DEPARTMENT OF ENERGY

Notice of Early Public and Governmental Engagement for Potential Designation of Tribal Energy Access, Southwestern Grid Connector, and Lake Erie-Canada National Interest Electric Transmission Corridors

AGENCY: Grid Deployment Office, Department of Energy.

ACTION: Notice of early public and governmental engagement and request for comment.

SUMMARY: The U.S. Department of Energy (DOE) is issuing this Notice of Early Public and Governmental Engagement to invite input and comment from Federal and State agencies, regional entities, Tribal and local governments, the public, and other interested parties on DOE's consideration of three potential National Interest Electric Transmission Corridors (NIETCs). This notice also provides date, time, and registration information for informational webinars regarding the potential NIETCs. DOE is seeking input and comments on the possible scope of analysis, including environmental, cultural, or socioeconomic effects should DOE designate any of the potential NIETCs, and the contents of DOE's engagement framework, including appropriate methods and locations of future NIETC-specific meetings. DOE also invites any other relevant feedback. Following consideration of comments and suggestions, DOE intends to refine geographic boundaries of the three potential NIETCs identified in this notice and determine its obligations under the National Environmental Policy Act (NEPA) and other environmental review requirements for each potential NIETC designation identified in this notice. If DOE determines that NIETC designation is a major federal action significantly affecting the quality of the human environment, DOE will subsequently begin any necessary NEPA process. If DOE determines that NIETC designation is not a major federal action significantly affecting the quality of the human environment, then DOE expects that NEPA would not apply.

DATES: Comments and information are requested on or before February 14, 2025. Comments received or postmarked after that date will be considered to the extent practicable. There are three informational webinars scheduled during the comment period, one for each potential NIETC designation: the potential Tribal Energy Access Corridor on January 14, 2025, at 3 p.m. eastern; the potential Southwestern Grid Connector Corridor on January 15, 2025, at 3 p.m. eastern; and the potential Lake Erie-Canada Corridor on January 16, 2025, at 3 p.m. eastern. Information on how to register for these webinars can be found on DOE's NIETC website, at https://www.energy.gov/gdo/national-interest-electric-transmission-corridor-designation-process. These webinars will be recorded, and the recordings will be available at the same website when ready.

ADDRESSES: Interested parties are encouraged to submit comments using the Federal eRulemaking Portal at www.regulations.gov, under the relevant docket number(s). Alternatively, interested parties may submit comments, identified by relevant docket number(s), by any of the following methods:

• Email: NIETC@hq.doe.gov. Include the relevant docket number(s) in the subject line of the email.

• Mail: Address written comments to U.S. Department of Energy, Grid Deployment Office, 1000 Independence Ave. SW, Suite 4H-065, Washington, DC 20585.

Instructions: There are four docket numbers associated with this Notice of Early Public and Governmental Engagement. DOE encourages interested parties to submit general recommendations and comments in response to the topics listed in “Request for Comments” (section IV) of the SUPPLEMENTARY INFORMATION section of this Notice of Early Public and Governmental Engagement under the docket number in which this notice has been posted. DOE encourages interested parties to submit recommendations and comments specific to the circumstances of individual potential NIETCs in the relevant dockets: DOE-HQ-2024-0088-Potential Designation of the Tribal Energy Access National Interest Electric Transmission Corridor; DOE-HQ-2024-0089—Potential Designation of the Southwestern Grid Connector National Interest Electric Transmission Corridor; DOE-HQ-2024-0090—Potential Designation of the Lake Erie-Canada National Interest Electric Transmission Corridor.

Docket: The dockets for this activity are available for review at www.regulations.gov. All documents in the dockets are listed in the www.regulations.gov index. However, not all documents listed in the index may be publicly available, such as information that is exempt from public disclosure. The docket web pages can be found at www.regulations.gov. The docket web pages contain instructions on how to access all documents, including public comments, in the dockets.

Further information about the NIETC program, including maps and underlying geographic information system (GIS) data displaying the geographic boundaries of the three potential NIETCs moving to Phase 3 and identification of transmission projects currently under development within the potential NIETCs, as well as information on how to attend the informational webinars, may be found on DOE's website at: https://www.energy.gov/gdo/national-interest-electric-transmission-corridor-designation-process.

FOR FURTHER INFORMATION CONTACT: Christina Gomer, Senior Technical Advisor, by email at NIETC@hq.doe.gov or by telephone at (202) 586-2006.

SUPPLEMENTARY INFORMATION:

I. Background

The Federal Power Act (FPA) (16 U.S.C. 791a et seq.) authorizes the Secretary of Energy to designate any geographic area as a NIETC if the Secretary finds, based on the DOE's triennial National Transmission Needs Study (Needs Study) or other relevant information, present or expected transmission capacity constraints or congestion that adversely affects consumers. The purpose for designating a NIETC is to facilitate timely development of electric transmission infrastructure to address the electric transmission needs identified in these areas. Designation of an area as a NIETC enables DOE and the Federal Energy Regulatory Commission (FERC) to use critical Federal financing and permitting tools to spur construction of transmission projects within the area. NIETC designation is not a route determination for any particular transmission project nor is it an endorsement of one or more transmission solutions to identified present or expected transmission capacity constraints or congestion within the NIETC.

Pursuant to section 216(a)(1) of the FPA, DOE must conduct a study every three years of electric transmission capacity constraints and congestion, which DOE refers to as the Needs Study. On October 30, 2023, DOE released its latest triennial Needs Study.¹ The 2023 Needs Study is an assessment of publicly available data and more than 120 recently published reports that consider current and anticipated future electric transmission needs given a range of electricity demand, public policy, and market conditions. As used in the 2023 Needs Study, an electric transmission need refers to the existence of present or expected electric transmission capacity constraints or congestion in a geographic area, consistent with FPA section 216(a)(1). The Needs Study supports the implementation of DOE programs, including the potential designation of NIETCs, consistent with the statutory direction in FPA section 216(a)(2) that DOE consider designating NIETCs based on the study required by section 216(a)(1) or other relevant information on transmission need.

¹ See https://www.energy.gov/gdo/national-transmission-needs-study.

DOE established a four-phase process, pursuant to FPA section 216(a), as amended by the Infrastructure Investment and Jobs Act (IIJA), 16 U.S.C. 824p(a), through which DOE may designate NIETCs. DOE initiated Phase 1 on December 19, 2023, with the release of DOE's final guidance setting forth the new four-phase NIETC designation process.² This guidance included DOE's preliminary assessment of the transmission needs found in the 2023 Needs Study and guidance on where DOE believed NIETC designation may be particularly valuable based on those findings. Phase 1 included a 45-day window for interested parties to submit information and recommendations on the geographic boundaries of potential NIETCs, the present or expected transmission capacity constraints or congestion within those geographic boundaries (i.e., the transmission needs adversely affecting consumers), and the relevant discretionary factors from the list in FPA section 216(a)(4) that DOE may consider in designating a NIETC. DOE reviewed all information submissions, recommendations, and comments and considered the results of its 2023 Needs Study as well as other information relating to electric transmission capacity constraints and congestion to develop a preliminary list of potential NIETCs to initiate Phase 2 of the NIETC designation process.

² See https://www.energy.gov/sites/default/files/2023-12/2023-12-15%20GDO%20NIETC%20Final%20Guidance%20Document.pdf.

DOE initiated Phase 2 on May 8, 2024, with the release of a preliminary list of 10 potential NIETCs that DOE was considering for NIETC designation in its first iteration of the four-phase designation process.³ DOE provided a high-level explanation of the basis for those potential NIETCs and opened another 45-day public comment period, focused on the 10 potential NIETCs as well as additional information on potential impacts on environmental, community, and other resources of NIETC designation.

³ See https://www.energy.gov/sites/default/files/2024-05/PreliminaryListPotentialNIETCsPublicRelease.pdf.

DOE initiated Phase 3 in December 2024, when DOE announced which potential NIETCs from the preliminary list released in May 2024 were moving to Phase 3. As a result of findings in the 2023 Needs Study and other relevant information on transmission needs, including review of substantial public comment during Phases 1 and 2, DOE preliminarily identified targeted, high-priority geographic areas for which: transmission development is critical to address transmission needs within the area, including key findings in the 2023 Needs Study, unmet through existing planning processes; there is clear utility to NIETC designation to further such transmission development in the nearer term in light of transmission projects under development in these areas; and the group of potential NIETCs balances DOE's resources to achieve timely, durable designations that follow from robust public and governmental engagement. Specifically, DOE announced that it was moving three potential NIETCs to Phase 3: the potential Tribal Energy Access Corridor, the potential Southwestern Grid Connector Corridor, and the potential Lake Erie-Canada Corridor. These potential NIETCs are significantly narrowed and refined from the 10 potential NIETCs included in the May 2024 preliminary list, and each were renamed to better describe their location and purpose. Each of these potential NIETCs are described in further detail in section II of this notice.

Phase 3 includes several concurrent activities. DOE continues to independently assess the basis for NIETC designation; assess and determine its NEPA obligations; and conduct robust public and governmental engagement. As part of the public and governmental engagement, DOE will continue to consider all issues and topics which may be relevant to its eventual release of draft NIETC designation reports (one for each potential NIETC) and draft environmental documents, if required, for public comment.

Based upon the information and analyses developed in Phase 3, DOE will proceed to Phase 4. The Director of the Grid Deployment Office has the authority, as delegated by Delegation Order No. S1-DEL-S3-2024 and Redelegation Order No. S3-DEL-GD1-2023, to issue final NIETC designation reports (one for each NIETC that proceeds to final designation).

II. Description of Each Potential NIETC

DOE has announced three potential NIETCs that have moved to Phase 3, described in detail below: the potential Tribal Energy Access Corridor, the potential Southwestern Grid Connector Corridor, and the potential Lake Erie-Canada Corridor.

The potential Tribal Energy Access Corridor includes portions of the Phase 2 Northern Plains potential NIETC and refocuses to a refined area on central sections in North Dakota, South Dakota, and Nebraska with portions of central North Dakota, South Dakota, Cheyenne River Reservation, and Standing Rock Reservation that were not in the Phase 2 potential NIETC map. The potential Tribal Energy Access Corridor primarily follows existing transmission line rights-of-way, and connects the Cheyenne River Reservation, Pine Ridge Reservation, Rosebud Indian Reservation, Standing Rock Reservation, and Yankton Reservation to existing or under development higher-voltage transmission lines, which can enable Tribal energy and economic development.

The potential Southwestern Grid Connector Corridor includes portions of the Phase 2 Mountain-Plains-Southwest and Plains-Southwest potential NIETCs, consisting of narrower areas of Colorado, New Mexico, and the Oklahoma panhandle with portions of southeastern Colorado and New Mexico not in the Phase 2 potential NIETC maps. This potential NIETC focuses on the seam between the Eastern and Western Interconnections including back-to-back high-voltage direct current substations which can support interregional and cross-interconnection transmission opportunities.

The potential Lake Erie-Canada Corridor includes portions of the Phase 2 Mid-Atlantic-Canada potential NIETC, focusing on Lake Erie and a narrower area in northern Pennsylvania, which can support connections between Canada and the PJM Interconnection region.

More information on these potential NIETCs, including maps and underlying GIS data displaying the geographic boundaries of the three potential NIETCs moving to Phase 3 and identification of transmission projects currently under development within the potential NIETCs, can be found on DOE's NIETC website at: https://www.energy.gov/gdo/national-interest-electric-transmission-corridor-designation-process.

As previously described, DOE may use comments and suggestions received during this early engagement period and other potential future engagements and consultations to help refine the geographic boundaries of the potential NIETCs identified in this notice, and the boundaries of any potential NIETC may continue to be refined until the issuance of a final NIETC designation report (Phase 4). In addition, for each potential NIETC that DOE is moving to Phase 3, DOE will assess and determine its NEPA obligations. DOE's assessment will include but is not limited to analyzing whether any potential NIETC designation constitutes a major federal action significantly affecting the quality of the human environment (and therefore, whether NEPA applies); whether there are any potential effects of such a designation, and, if any, can they be meaningfully evaluated; and, if required, the appropriate level of NEPA review.

III. Public Engagement Framework

To minimize the burden on communities, DOE intends to schedule virtual and in-person public meetings to provide additional information and receive comments in response to this notice. DOE will use feedback received during this comment period to tailor any future public engagement for each potential NIETC designation. Interested parties may request meetings at any time during Phase 3 by emailing NIETC@hq.doe.gov. DOE may not be able to accommodate all meeting requests received and may organize group meetings based on topic, geography, or other common feature.

During Early Engagement Period (Through February 14, 2025)

There are three informational webinars scheduled during the comment period, one for each potential NIETC designation: the potential Tribal Energy Access Corridor on January 14, 2025, at 3 p.m. eastern; the potential Southwestern Grid Connector Corridor on January 15, 2025, at 3 p.m. eastern; and the potential Lake Erie-Canada Corridor on January 16, 2025, at 3 p.m. eastern. In addition to these webinars, interested parties may request virtual informational meetings with DOE by contacting NIETC@hq.doe.gov.

After Early Engagement Period

While DOE reviews and considers comments received in response to this Notice of Early Public and Governmental Engagement and assesses its NEPA obligations, DOE welcomes requests for meetings to discuss the potential NIETCs. Meeting requests can be made by emailing NIETC@hq.doe.gov. Note that DOE intends to initiate NEPA, if required, for each potential NIETC on its own timeline and the designation process will proceed on a NIETC-by-NIETC basis.

Upon any determination by DOE to initiate NEPA, if required and at the appropriate level, the dates and locations of any potential NIETC-specific public and governmental engagements will be announced via subsequent announcements, Federal Register notices, local media, and/or other appropriate methods. Commonly used methods of public and governmental engagements include:

• Public meetings (may be virtual or in person),

• Meetings upon request, and

• Periodic meetings (either virtual or in-person) to provide updates and discuss concerns, where relevant.

Additional Opportunities for Engagement

Tribal Engagement

Any government-to-government consultations with affected federally recognized Indian Tribes will be conducted in a manner appropriate to such consultations, respectful of Tribal sovereignty and consistent with the ongoing trust responsibility between the United States and Tribes.

Regional Entity Engagement

Pursuant to FPA section 216(a)(3), DOE will consult with regional entities during Phase 3.

IV. Request for Comments

DOE specifically requests recommendations and comments on the contents of the public engagement framework, including topics such as: the number, location, and format of public meetings; preferred day of week or time of day for such engagements; and identifying existing forums for engaging with interested or potentially affected stakeholders.

DOE additionally requests recommendations and comments on methods of outreach, including topics such as: names of any specific entities, such as community-based organizations, that should be included in or contacted directly as part of public engagement; and appropriate local news outlets, newspapers, and other news and media outlets for reaching interested or potentially affected stakeholders.

DOE additionally seeks suggestions on how to organize group meetings if all individual meeting requests cannot be accommodated, including topics around which meetings should be organized.

DOE invites suggestions on environmental, cultural, or socioeconomic considerations or potential effects that DOE should consider during its review and analysis of its potential NIETC designations, including comments on whether any potential effects can be meaningfully evaluated. DOE additionally seeks input on whether each potential NIETC maximizes existing rights-of-way and avoids and minimizes, to the maximum extent practicable, and offsets to the extent appropriate and practicable, sensitive environmental areas and cultural heritage sites (FPA section 216(a)(4)(G)). Commenters are encouraged to submit only non-sensitive information necessary to sufficiently inform potential NIETC designations and avoid submitting any potentially sensitive data. If DOE determines that additional information is needed to support NIETC designation, DOE will contact the commenter directly to request that data.

For all of the previous topics, DOE encourages general recommendations and comments, which interested parties should submit under the docket number in which this notice has been posted, as well as recommendations and comments specific to the circumstances of individual potential NIETCs, which interested parties should submit under the relevant docket number: DOE-HQ-2024-0088-Potential Designation of the Tribal Energy Access National Interest Electric Transmission Corridor; DOE-HQ-2024-0089-Potential Designation of the Southwestern Grid Connector National Interest Electric Transmission Corridor; DOE-HQ-2024-0090-Potential Designation of the Lake Erie-Canada National Interest Electric Transmission Corridor.

Signing Authority

This document of the Department of Energy was signed on December 9, 2024, by Maria D. Robinson, Director, Grid Deployment Office, pursuant to delegated authority from the Secretary of Energy. That document with the original signature and date is maintained by the DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 10, 2024.
Treena V. Garrett,
Federal Register Liaison Officer, U.S. Department of Energy.

[FR Doc. 2024-29419 Filed 12-13-24; 8:45 am]

BILLING CODE 6450-01-P